NUCLEAR REGULATORY COMMISSION

10 CFR Part 51

[NRC-2012-0246]

RIN 3150-AJ20

Proposed Waste Confidence Rule and Draft Generic Environmental Impact Statement

AGENCY: Nuclear Regulatory Commission.

ACTION: Rescheduling of public meetings.

SUMMARY: The U.S. Nuclear Regulatory Commission (NRC) has rescheduled the Waste Confidence public meetings it initially planned to hold in San Luis Obispo and Carlsbad, California, on October 7 and October 9, respectively. The NRC postponed these meetings as a result of lapsed appropriations. The Waste Confidence public meeting in Carlsbad will now be held on November 18, 2013. The Waste Confidence public meeting in San Luis Obispo will now be held on November 20, 2013. The rescheduled meetings will allow the NRC to receive public comments on proposed amendments to the NRC's regulations pertaining to the environmental impacts of the continued storage of spent nuclear fuel beyond a reactor's licensed life for operation and prior to ultimate disposal (the proposed Waste Confidence rule) and the draft generic environmental impact statement (DGEIS), NUREG-2157, “Waste Confidence Generic Environmental Impact Statement,” that forms a regulatory basis for the proposed rule. The meetings are open to the public, and anyone may attend. The NRC will publish notices for other postponed and rescheduled Waste Confidence public meetings as soon as practicable.

DATES: The NRC plans to hold a rescheduled Waste Confidence public meeting in Carlsbad, California, on November 18, 2013. The NRC plans to hold a rescheduled Waste Confidence public meeting in San Luis Obispo, California, on November 20, 2013. This document contains specific meeting information in the SUPPLEMENTARY INFORMATION section.

ADDRESSES: Please refer to Docket ID NRC-2012-0246 when contacting the NRC about the availability of information for the proposed Waste Confidence rule and DGEIS. You may access publicly available information related to these documents by any of the following methods:

• Federal Rulemaking Web Site: Go to http://www.regulations.gov and search for Docket ID NRC-2012-0246.

• NRC's Waste Confidence Web site: Go to http://www.nrc.gov/waste/spent-fuel-storage/wcd.html.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DGEIS is available in ADAMS under Accession No. ML13224A106.

• NRC's PDR: You may examine and purchase copies of public documents at the NRC's PDR, Room O1-F21, One White Flint North, 11555 Rockville Pike, Rockville, Maryland 20852.

FOR FURTHER INFORMATION CONTACT: Sarah Lopas, Office of Nuclear Material Safety and Safeguards, U.S. Nuclear Regulatory Commission, Washington, DC 20555-0001; telephone: 301-287-0675; email: Sarah.Lopas@nrc.gov.

SUPPLEMENTARY INFORMATION: The NRC published the proposed Waste Confidence Rule in the Federal Register on September 13, 2013 (78 FR 56776). On the same day, the NRC and the U.S. Environmental Protection Agency issued notices of availability for the DGEIS (78 FR 56621; 78 FR 56695).

Prior to the lapse in appropriations in October 2013, the NRC staff held two Waste Confidence public meetings (one in Rockville, Maryland, on October 1, and one in Denver, Colorado, on October 3). The NRC postponed five meetings (in San Luis Obispo and Carlsbad, California; Perrysburg, Ohio; Minnetonka, Minnesota; and Oak Brook, Illinois) as a result of lapsed appropriations. The NRC has rescheduled the meeting in Oak Brook, Illinois, on November 12. The NRC will publish notices for rescheduled meetings in Perrysburg, Ohio, and Minnetonka, Minnesota, as soon as practicable. Five additional Waste Confidence public meetings remain scheduled as publicized in 78 FR 54789: Chelmsford, Massachusetts, on October 28; Tarrytown, New York, on October 30; Charlotte, North Carolina, on November 4; Orlando, Florida, on November 6; and Rockville, Maryland, on November 14.

The November 18 public meeting will take place at the Sheraton Carlsbad Resort and Spa, 5480 Grand Pacific Drive, Carlsbad, California. The November 20 public meeting will take place at the Courtyard by Marriott San Luis Obispo, 1605 Calle Joaquin Road, San Luis Obispo, California. Each meeting will start at 7:00 p.m. Pacific Standard Time and will continue until 10:00 p.m. Pacific Standard Time. Additionally, the NRC staff will host informal discussions during an open house one hour prior to the start of each meeting. The open houses will start at 6:00 p.m. Pacific Standard Time.

The NRC staff will accept comments from the public during the comment-period portion of the meetings. The public meetings will be transcribed and will include: (1) A presentation on the contents of the DGEIS and proposed Waste Confidence rule; and (2) the opportunity for government agencies, organizations, and individuals to provide comments on the DGEIS and proposed rule. No oral comments on the DGEIS or proposed Waste Confidence rule will be accepted during the pre-meeting, open-house sessions. To be considered, oral comments must be presented during the transcribed portions of the public meetings. The NRC staff will also accept written comments at any time during the public meetings.

Persons interested in presenting oral comments at the November 18 or 20 public meetings are encouraged to pre-register. Persons may pre-register to present oral comments at either meeting by calling 301-287-9392 or by emailing WCRegistration@nrc.gov no later than 3 days prior to the meeting. Members of the public may also register in-person to provide oral comments at each meeting. Individual oral comments may be limited by the time available, depending on the number of persons who register.

If special equipment or accommodations are needed to attend or to present information at either public meeting, then the need should be brought to the NRC's attention no later than 10 days prior to the meeting to provide the NRC staff adequate notice to determine whether the request can be accommodated. The meeting agenda and participation details for each meeting will be available on the NRC's Public Meeting Schedule Web site at http://www.nrc.gov/public-involve/public-meetings/index.cfm no later than 10 days prior to each meeting.

Dated at Rockville, Maryland, this 22nd day of October 2013.
For the Nuclear Regulatory Commission.
Keith I. McConnell,
Director, Waste Confidence Directorate, Office of Nuclear Material Safety and Safeguards.

[FR Doc. 2013-25602 Filed 10-28-13; 8:45 am]

BILLING CODE 7590-01-P